DEPARTMENT OF TRANSPORTATION

Federal Aviation Administration

14 CFR Part 39

[Docket No. FAA-2007-0047; Directorate Identifier 2007-NM-197-AD; Amendment 39-15329; AD 2008-01-04]

RIN 2120-AA64

Airworthiness Directives; Bombardier Model CL-600-2B19 (Regional Jet Series 100 & 440) Airplanes

AGENCY: Federal Aviation Administration (FAA), Department of Transportation (DOT).

ACTION: Final rule.

SUMMARY: We are superseding an existing airworthiness directive (AD) for the products listed above. This AD results from mandatory continuing airworthiness information (MCAI) originated by an aviation authority of another country to identify and correct an unsafe condition on an aviation product. The MCAI describes the unsafe condition as:

* * * * *

The Bombardier CL-600-2B19 airplanes have had a history of flap failures at various positions for several years. Flap failure may result in a significant increase in required landing distances and higher fuel consumption than planned during a diversion. * * *

We are issuing this AD to require actions to correct the unsafe condition on these products.

DATES: This AD becomes effective February 15, 2008.

The Director of the Federal Register approved the incorporation by reference of certain publications listed in this AD as of September 5, 2007 (72 FR 46555, August 21, 2007).

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Parrillo, Aerospace Engineer, Systems and Flight Test Branch, ANE-172, FAA, New York Aircraft Certification Office, 1600 Stewart Avenue, Suite 410, Westbury, New York 11590; telephone (516) 228-7305; fax (516) 794-5531.

SUPPLEMENTARY INFORMATION:

Discussion

We issued a notice of proposed rulemaking (NPRM) to amend 14 CFR part 39 to include an AD that would apply to the specified products. That NPRM was published in the Federal Register on October 17, 2007 (72 FR 58763) and proposed to supersede AD 2007-17-07, Amendment 39-15165 (72 FR 46555, August 21, 2007). That NPRM proposed to correct an unsafe condition for the specified products.

That NPRM proposed to retain the requirements of AD 2007-17-07, i.e., revising the airplane flight manual (AFM) to incorporate Canadair Regional Jet Temporary Revision (TR) RJ/165, dated July 6, 2007, into the AFM; adding operational procedures into the AFM; training flight crewmembers and operational control/dispatch personnel on the operational procedures; and doing corrective “maintenance actions.”

That NPRM also proposed to require training flight crewmembers on reduced or zero flap landing, and doing additional corrective “maintenance actions” that include a pressure test of the flexible drive-shaft, and corrective actions if necessary. You may obtain further information by examining the MCAI in the AD docket.

Comments

We gave the public the opportunity to participate in developing this AD. We considered the comments received.

Request To Exclude Certain Parts From Inspection

Comair requests that we exclude from the proposed actions actuators with less than 2,000 flight hours since new or since repair as of July 12, 2007 (the issue date of Bombardier Service Bulletin 601R-27-150). Comair states that those actuators would not require the inspections of Part C of the Accomplishment Instructions of the service bulletin. Comair suggests that paragraph “(f)(3)” of the NPRM contain a statement qualifying under what conditions flap actuators must comply with Part C of the service bulletin by stating that new actuators, and those recently repaired where it can be shown that the inboard pinion shaft seals, part numbers (P/Ns) 853SC177-1/-2, were replaced, should be exempt from Part C (low temperature torque check test).

We infer that Comair meant to refer to paragraph (g)(3) of the NPRM. We referred to Bombardier Service Bulletin 601R-27-150 as the appropriate source of service information for accomplishing the actions specified in paragraph (g)(3) of the NPRM. Paragraph (g)(3) of the NPRM proposes to require doing actions in accordance with Part C of the service bulletin. We agree that the actions specified in paragraph (g)(3) of this AD apply only to certain actuators as specified in paragraph 1.D., “Compliance,” of the service bulletin. The actions in paragraph (g)(3) of this AD do not apply to new actuators with 2,000 or fewer flight hours and repaired actuators that have 2,000 or fewer flight hours since the pinion seals were changed. We have coordinated with TCCA, and we have revised paragraph (g)(3) of this AD to clarify which airplanes are subject to that paragraph.

Request To Remove Requirement Specified in Paragraph (g)(3) of the NPRM

Mesaba Airlines requests that we remove the requirement proposed in paragraph (g)(3) of the NPRM to do a low temperature torque test of the flap actuators and all applicable corrective actions. Mesaba Airlines states that Bombardier and the flap actuator manufacturer (Eaton) are very close to certifying a new seal for the flap actuator. Mesaba Airlines explains that this new seal is intended to fix the internal fluid leakage issue in the actuator that could result in an actuator problem (and result in the actuator failing the low temperature torque test). Mesaba Airlines notes that once the modified flap actuator is certified, a fleet retrofit with the modified actuator would result in a more robust fix for the actuator issue.

Mesaba Airlines further states that there is no guarantee currently that an actuator installed to replace an actuator that fails the low temperature torque test would not have the same issue shortly after installation (negating the benefit of performing the test). Mesaba Airlines concludes that the flight operations requirements instituted under AD 2007-17-07 provide an acceptable margin of safety until the modified actuator becomes available for retrofit.

We disagree with the request to remove the requirement specified in paragraph (g)(3) of this AD. Bombardier and TCCA are discussing possible terminating action for Part C (low temperature torque test) of Bombardier Service Bulletin 601R-27-150. Although it has been proposed that the replacement of the current actuators with actuators incorporating the new inboard seal should be terminating action for the actuator cold soak requirement specified in Part C of the service bulletin, this has not yet been agreed to. Additionally, the new seal is still undergoing endurance testing at Eaton and is not yet approved.

Once this new seal is developed, approved, and available, we might consider additional rulemaking. The actions specified in paragraph (g)(3) of this AD are intended to mitigate the potential of flap failures utilizing the solutions that are currently available. We have not revised this AD in this regard. However, according to the provisions of paragraph (h)(1) of the AD, operators may request an alternative method of compliance if the request includes data that prove that the new action would provide an acceptable level of safety.

In regard to Mesaba Airlines' statement that there is no guarantee that a replacement actuator installed to replace an actuator failing the low temperature torque test would not have the same issue shortly after installation, we acknowledge that there is no guarantee that a replacement unit will not fail. However, replacing a known contaminated unit with a new unit, as required by paragraph (g)(3) of this AD, adequately addresses the identified unsafe condition. The actions in paragraph (g)(3) mitigate the risk of a failure as time in service increases.

As stated earlier, we have revised paragraph (g)(3) of this AD to clarify that the actions apply only to certain actuators with more than 2,000 flight hours since new or actuators that have accumulated more than 2,000 flight hours since the pinion shaft seals were replaced. Bombardier has determined that the effects of oil contamination typically do not manifest until the actuators have accumulated over 6,000 flight hours, depending on aircraft utilization. The 24-month compliance time specified in paragraph (g)(3) of this AD is necessary to ensure that actuators that are in the range of 6,000 flight hours are inspected. We have not revised this AD in this regard.

Request To Allow Another Method of Compliance With Part C of the Service Bulletin

Comair also requests that we allow the replacement of the inboard pinion shaft seals, P/Ns 853SC177-1/-2, as a method of compliance with Part C of the service bulletin. Comair notes that it has had and will have many actuators removed in accordance with Maintenance Requirement Manual, Certification Maintenance Requirements (CMR) Task C27-50-111-10, Functional Check of the Inboard Flap Actuator Torque Limiter. Comair states that actuators removed to comply with this CMR task should not also be subject to Part C of the service bulletin because the CMR task is an example of an event when the pinion seals must be replaced.

We agree with the commenter that replacement actuators with inboard pinion shaft seals, P/Ns 853SC177-1/-2, are not subject to the actions in Part C of the service bulletin. As specified in paragraph 1.D., “Compliance,” of the service bulletin, Part C only applies to certain actuators with more than 2,000 flight hours since new or since repair where it can be shown that the inboard pinion shaft seals P/Ns 853SC177-1/-2 were replaced. As stated previously, we have revised paragraph (g)(3) of this AD to clarify the actuators subject to the actions in that paragraph. If a repair was done and the inboard pinion shaft seals were replaced, the actuator would not be subject to Part C of the service bulletin unless the part had over 2,000 flight hours since the seal replacement.

Request To Allow Previous Alternative Methods of Compliance (AMOCs)

Comair also requests that we add to the AMOC paragraph of this AD a statement that AMOCs approved previously according to AD 2007-17-07 are approved as AMOCs for the corresponding provisions of this AD.

We agree that AMOCs approved previously in accordance with AD 2007-17-07 are acceptable for compliance with the corresponding provisions of this AD. We have revised paragraph (h)(1) of this AD accordingly.

Request To Remove Requirements

Larry Nelson, a private citizen, states that the training requirements in AD 2007-17-07 and paragraphs (f)(3) and (g)(1) of the NPRM do not meet the requirements of sections 39.3 and 39.5 of the Federal Aviation Regulations (14 CFR 39.3 and 14 CFR 39.5). The commenter notes that section 14 CFR 39.3 states that rules “* * * apply to the following products: Aircraft, aircraft engines, propellers, and appliances.” The commenter concludes that the training specified in the NPRM has nothing to do with the aircraft.

The commenter adds that paragraphs (a) and (b) of section 14 CFR 39.5 state, “An unsafe condition exists in the product;” and “the condition is likely to exist or develop in other products of the same type design.” The commenter states that the perceived unsafe condition, although part of the aircraft, actually applies to the specific parts mentioned in paragraphs (f)(1), (g)(2), and (g)(3) of the NPRM (flap flex shafts and flap actuators).

We infer that the commenter requests we remove the requirements for training and for doing any actions related to parts (and not the airplane itself) from the NPRM. We disagree. Section 14 CFR 39.11 describes the types of actions that ADs can require, including “conditions and limitations you must comply with.” In section 14 CFR 39.11, we intended to retain broad authority to require whatever types of corrective actions are determined to be most effective in addressing identified unsafe conditions.

In this AD, we have found that one of the factors contributing to the identified unsafe condition is lack of training in operating an airplane when flap failure occurs in-flight (such as in freezing conditions). Due to the unsafe condition, we determined that these training requirements, in conjunction with the other requirements of this AD, are necessary to safely operate the airplane; and you must comply with them if you are an operator.

As for the commenter's statement that the unsafe condition only applies to the part and not the airplane itself, we do not agree. We routinely issue ADs against the product that has a part installed that we have found to be unsafe. The AD applies to the product, and not the parts themselves, because parts that are not installed on operated products do not create an unsafe condition. As stated above, we determined that inadequate training and operating limitations also contributed to the unsafe condition of this AD. We have not revised the AD in this regard.

Request for Clarification of Compliance

Larry Nelson also requests clarification on how to provide compliance documentation for the operations/dispatch and flight crewmembers' training specified in paragraph (f)(3) of this AD. The commenter states that section 39.11 of the Federal Aviation Regulations (14 CFR 39.11) specifies, “Airworthiness directives specify inspections you must carry out, conditions and limitations you must comply with, and any actions you must take to resolve an unsafe condition.” The commenter states that this requirement would be met until one or more parts are changed. The commenter notes that since this NPRM is written against the airplane and does not include the specific parts addressed in the AD, NPRM, and service bulletin, it would therefore be difficult to manage.

We find that clarification is necessary. As stated in paragraph (f)(3) of this AD, the training on the information in paragraph (f)(2) of this AD must be approved by the Principal Operations Inspector (POI). The method for documenting compliance should be included in the training approved by the POI. However, the method in which operators implement training in their operations and the method in which operators document compliance may vary greatly. Therefore, we have not included that information in this AD. We have not revised this AD in this regard.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 684 products of U.S. registry. We also estimate that it will take about 27 work-hours per product to comply with the basic requirements of this AD. The average labor rate is $80 per work-hour. Based on these figures, we estimate the cost of this AD to the U.S. operators to be $1,477,440, or $2,160 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15165 (72 FR 46555, August 21, 2007) and adding the following new AD:

2008-01-04 Bombardier, Inc. (Formerly Canadair): Amendment 39-15329. Docket No. FAA-2007-0047; Directorate Identifier 2007-NM-197-AD.

Effective Date

(a) This airworthiness directive (AD) becomes effective February 15, 2008.

Affected ADs

(b) This AD supersedes AD 2007-17-07, Amendment 39-15165.

Applicability

(c) This AD applies to Bombardier Model CL-600-2B19 (Regional Jet Series 100 & 440) airplanes, certificated in any category, serial numbers 7003 through 7990 and 8000 and subsequent.

Subject

(d) Air Transport Association (ATA) of America Code 27: Flight Controls.

Reason

(e) The mandatory continuing airworthiness information (MCAI) states:

* * * * *

The Bombardier CL-600-2B19 airplanes have had a history of flap failures at various positions for several years. Flap failure may result in a significant increase in required landing distances and higher fuel consumption than planned during a diversion. * * *

* * * * *

This AD retains the requirements of AD 2007-17-07, i.e., revising the airplane flight manual (AFM) to incorporate a temporary revision into the AFM; adding operational procedures into the AFM; training flight crewmembers and operational control/dispatch personnel on the operational procedures; and doing corrective “maintenance actions.” The corrective “maintenance actions” include the cleaning and lubrication of the flexible shafts, and applicable related investigative and corrective actions (which include a detailed inspection of the actuator connector sealant bead for signs of damage or delamination, repair of damaged sealant, and if necessary, a low temperature torque check on the actuator and if torque test results are not satisfactory, an installation of a serviceable actuator or, if no serviceable actuators are available, contacting the FAA for corrective action), and installing metallic seals in the flexible drive-shafts, and applicable related investigative and corrective actions (which include a detailed inspection of the mating surfaces on the flexible drive-shaft for damage (scratches or dents), and if mating surfaces have damage, cleaning the sealing washer and mating surfaces and applying sealant). This AD also requires training flight crewmembers on reduced or zero flap landing and doing additional corrective “maintenance actions” that include a pressure test of the flexible drive-shaft and corrective actions (which include replacing any flexible drive-shaft that exhibits leakage (any sign of bubbles within one minute during the pressure test in water) with a serviceable flexible drive-shaft), and a low temperature torque test of the flap actuators and corrective actions (which include installation of a serviceable actuator if torque test results are not satisfactory).

Restatement of Requirements of AD 2007-17-07

(f) Unless already done, do the following actions.

(1) Part I. Airplane Flight Manual (AFM) Change: Within 30 days after September 5, 2007 (the effective date of AD 2007-17-07), revise the Canadair Regional Jet Airplane Flight Manual CSP A-012, by incorporating the information in Canadair Regional Jet Temporary Revision (TR) RJ/165, dated July 6, 2007, into the AFM.

Note 1: The actions required by paragraph (f)(1) of this AD may be done by inserting a copy of Canadair Regional Jet TR RJ/165, dated July 6, 2007, into the Canadair Regional Jet Airplane Flight Manual CSP A-012. When this TR has been included in general revisions of the AFM, the general revisions may be inserted in the AFM.

(2) Part II. Operational Procedures: Within 30 days after September 5, 2007, revise the Limitations Section of the Canadair Regional Jet Airplane Flight Manual CSP A-012, to include the following statement. This may be done by inserting a copy of paragraph (f)(2) of this AD in the AFM.

“1. Flap Extended Diversion

Upon arrival at the destination airport, an approach shall not be commenced, nor shall the flaps be extended beyond the 0 degree position, unless one of the following conditions exists:

a. When conducting a precision approach, the reported visibility (or RVR) is confirmed to be at or above the visibility associated with the landing minima for the approach in use, and can be reasonably expected to remain at or above this visibility until after landing; or

b. When conducting a non-precision approach, the reported ceiling and visibility (or RVR) are confirmed to be at or above the ceiling and visibility associated with the landing minima for the approach in use, and can be reasonably expected to remain at or above this ceiling and visibility until after landing; or

c. An emergency or abnormal situation occurs that requires landing at the nearest suitable airport; or

d. The fuel remaining is sufficient to conduct the approach, execute a missed approach, divert to a suitable airport with the flaps extended to the landing position, conduct an approach at the airport and land with 1000 lb (454 kg) of fuel remaining.

Note 1: The fuel burn factor (as per AFM TR/165) shall be applied to the normal fuel consumption for calculation of the flaps extended missed approach, climb, diversion and approach fuel consumption.

Note 2: Terrain and weather must allow a minimum flight altitude not exceeding 15,000 feet along the diversion route.

Note 3: For the purpose of this AD, a “suitable airport” is an airport that has at least one usable runway, served by an instrument approach if operating under Instrument Flight Rules (IFR), and the airport is equipped as per the applicable regulations and standards for marking and lighting. The existing and forecast weather for this airport shall be at or above landing minima for the approach in use.

2. Flap Failure After Takeoff

When a takeoff alternate is filed, terrain and weather must allow a minimum flight altitude not exceeding 15,000 feet along the diversion route to that alternate, or other suitable airport. The fuel at departure shall be sufficient to divert to the takeoff alternate or other suitable airport with the flaps extended to the takeoff position, conduct and approach and land with 1000 lb (454 kg) of fuel remaining.

Note: The fuel burn factor (as per AFM TR/165) shall be applied to the normal fuel consumption for calculation of the flaps extended, climb, diversion and approach fuel consumption.

3. Flap Zero Landing

Operations where all useable runways at the destination and alternate airports are forecast to be wet or contaminated (as defined in the AFM) are prohibited during the cold weather season (December to March inclusive in the northern hemisphere) unless one of the following conditions exists:

a. The flap actuators have been verified serviceable in accordance with Part C (Low Temperature Torque Test of the Flap Actuators) of SB 601R-27-150, July 12, 2007, or

b. The flight is conducted at a cruise altitude where the SAT is −60 °C or warmer. If the SAT in flight is colder than −60 °C, descent to warmer air shall be initiated within 10 minutes, or

c. The Landing Distance Available on a useable runway at the destination airport is at least equal to the actual landing distance required for flaps zero. This distance shall be based on Bombardier performance data, and shall take into account forecast weather and anticipated runway conditions, or

d. The Landing Distance Available on a useable runway at the filed alternate airport, or other suitable airport is at least equal to the actual landing distance for flaps zero. This distance shall be based on Bombardier performance data, and shall take into account forecast weather and anticipated runway conditions.

Note 1: If the forecast destination weather is less than 200 feet above DH or MDA, or less than 1 mile (1500 meters) above the authorized landing visibility (or equivalent RVR), as applied to the usable runway at the destination airport, condition 3.a., 3.b., or 3.d. above must be satisfied.

Note 2: When conducting No Alternate IFR (NAIFR) operations, condition 3.a., 3.b., or 3.c. above must be satisfied.”

(3) Part III. Training: As of 30 days after September 5, 2007, no affected airplane may be operated unless the flight crewmembers of that airplane and the operational control/dispatch personnel for that airplane have received training that is acceptable to the Principal Operations Inspector (POI) on the operational procedures required by paragraph (f)(2) of this AD.

(4) Part IV. Maintenance Actions: Within 120 days after September 5, 2007, do the cleaning and lubrication of the flexible shafts, installation of metallic seals in the flexible drive-shafts, and all applicable related investigative and corrective actions by doing all the applicable actions specified in “PART A” of the Accomplishment Instructions of Bombardier Service Bulletin 601R-27-150, dated July 12, 2007; except if torque test results are not satisfactory, before further flight, install a serviceable actuator in accordance with the service bulletin or, if no serviceable actuators are available, contact the Manager, New York Aircraft Certification Office, FAA, for corrective action. Do all applicable related investigative and corrective actions before further flight.

New Requirements of This AD: Actions and Compliance

(g) Unless already done, do the following actions.

(1) As of November 30, 2008, no affected airplane may be operated unless the flight crewmembers of that airplane have received simulator training on reduced or zero flap landing that is acceptable to the POI. Thereafter, this training must be done during the normal simulator training cycle, at intervals not to exceed 12 months.

(2) Within 24 months or 4,000 flight hours after the effective date of this AD, whichever occurs first: Do a pressure test of the flexible drive-shaft, and do all applicable corrective actions, by doing all the applicable actions specified in “PART B” of the Accomplishment Instructions of Bombardier Service Bulletin 601R-27-150, dated July 12, 2007. Do all applicable corrective actions before further flight.

(3) For airplanes having flap actuators, part numbers (P/Ns) 852D100-19/-21, 853D100-19/-20, and 854D100-19/-20, specified in paragraphs (g)(3)(i) and (g)(3)(ii) of this AD: Within 24 months after the effective date of this AD, do a low temperature torque test of the flap actuators, and do all applicable corrective actions, by doing all the applicable actions specified in “PART C” of the Accomplishment Instructions of Bombardier Service Bulletin 601R-27-150, dated July 12, 2007. Do all applicable corrective actions before further flight.

(i) Airplanes having actuators that have not been repaired and that have accumulated more than 2,000 flight hours since new.

(ii) Airplanes having actuators that have been repaired and that have accumulated more than 2,000 flight hours on the inboard pinion shaft seals, P/Ns 853SC177-1/-2.

FAA AD Differences

Note 2: This AD differs from the MCAI and/or service information as follows:

(1) The maintenance tasks specified in the first row of the table in “Part IV. Maintenance Actions” of the MCAI do not specify a corrective action if an actuator is not serviceable (i.e., torque test results are not satisfactory). However, this AD requires contacting the FAA or installing a serviceable actuator before further flight if torque test results are not satisfactory. (Reference paragraph (f)(4) of this AD.)

(2) Although paragraph 2. of “Part III. Training” of the MCAI recommends accomplishing the initial training within 1 year, this AD requires accomplishing the training before November 30, 2008, in order to ensure that the actions are completed prior to the onset of cold weather operations.

(3) The MCAI does not specify which actuators are applicable to the actions specified in “Part C” of Bombardier Service Bulletin 601R-27-150, dated July 12, 2007. This AD requires that “Part C” of the service bulletin only be done for the actuators specified in paragraph (g)(3) of this AD.

Other FAA AD Provisions

(h) The following provisions also apply to this AD:

(1) Alternative Methods of Compliance (AMOCs): The Manager, New York Aircraft Certification Office (ACO), FAA, has the authority to approve AMOCs for this AD, if requested using the procedures found in 14 CFR 39.19. Send information to ATTN: Dan Parrillo, Aerospace Engineer, Systems and Flight Test Branch, ANE-172, FAA, New York ACO, 1600 Stewart Avenue, Suite 410, Westbury, New York 11590; telephone (516) 228-7305; fax (516) 794-5531. Before using any approved AMOC on any airplane to which the AMOC applies, notify your appropriate principal inspector (PI) in the FAA Flight Standards District Office (FSDO), or lacking a PI, your local FSDO. AMOCs approved previously in accordance with AD 2007-17-07 are approved as AMOCs for the corresponding provisions of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(i) Refer to MCAI Canadian Airworthiness Directive CF-2007-10, dated July 18, 2007; Bombardier Service Bulletin 601R-27-150, dated July 12, 2007; and Canadair Regional Jet Temporary Revision RJ/165, dated July 6, 2007, to the Canadair Regional Jet Airplane Flight Manual CSP A-012; for related information.

Material Incorporated by Reference

(j) You must use Bombardier Service Bulletin 601R-27-150, including Appendix A, dated July 12, 2007; and Canadair Regional Jet Temporary Revision RJ/165, dated July 6, 2007, to the Canadair Regional Jet Airplane Flight Manual CSP A-012; as applicable, to do the actions required by this AD, unless the AD specifies otherwise.

(1) The Director of the Federal Register previously approved the incorporation by reference of Bombardier Service Bulletin 601R-27-150, including Appendix A, dated July 12, 2007; and Canadair Regional Jet Temporary Revision RJ/165, dated July 6, 2007, to the Canadair Regional Jet Airplane Flight Manual CSP A-012 on September 5, 2007 (72 FR 46555, August 21, 2007).

(2) For service information identified in this AD, contact Bombardier, Inc., Canadair, Aerospace Group, P.O. Box 6087, Station Centre-ville, Montreal, Quebec H3C 3G9, Canada.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Issued in Renton, Washington, on January 3, 2008.
Ali Bahrami,
Manager, Transport Airplane Directorate, Aircraft Certification Service.

[FR Doc. E8-249 Filed 1-10-08; 8:45 am]

BILLING CODE 4910-13-P